DEPARTMENT OF HEALTH AND HUMAN SERVICES

Centers for Medicare & Medicaid Services

[Document Identifier: CMS-10466 and 10714]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by January 13, 2020.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number _____, Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10466 Patient Protection and Affordable Care Act; Exchange Functions: Eligibility for Exemptions

CMS-10714 Electronic Medical Documentation Interoperability (EMDI) Pre and Post Pilot Measures Survey

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension of a currently approved collection; Title of Information Collection: Patient Protection and Affordable Care Act; Exchange Functions: Eligibility for Exemptions; Use: The data collection and reporting requirements in “Patient Protection and Affordable Care Act; Exchange Functions: Eligibility for Exemptions; Miscellaneous Minimum Essential Coverage Provisions” (78 FR 39494—July 1, 2013)), address federal requirements that states must meet with regard to the Exchange minimum function of performing eligibility determinations and issuing certificates of exemption from the shared responsibility payment. In the final regulation, CMS addresses standards related to eligibility, including the verification and eligibility determination process, eligibility redeterminations, options for states to rely on HHS to make eligibility determinations for certificates of exemption, and reporting. Form Number: CMS-10466 (OMB control number: 0938-1190); Frequency: Occasionally; Affected Public: Private Sector (Businesses or other for-profits); Number of Respondents: 45,060; Total Annual Responses: 45,060; Total Annual Hours: 12,150. For policy questions regarding this collection contact Katherine Bentley at 301-492-5209.

2. Type of Information Collection Request: New Collection; Title of Information Collection: Electronic Medical Documentation Interoperability (EMDI) Pre and Post Pilot Measures Survey; Use: The EMDI program assists the Centers for Medicare & Medicaid Services (CMS) Health Information Technology (health IT) standards and interoperability (S&I) initiative, which is to: (1) Facilitate and expand the secure transport of interoperable electronic documentation, (2) utilize and fill in the gaps in the current standards to achieve increased level of interoperability among systems and organizations, and (3) demonstrate the utility of these standards by establishing pilot programs with existing Health Information Handlers, Health Information Service Providers (HISP), and health care providers.

The EMDI Initiative, associated documentation, and pilots are for the purposes of evaluating the performance of CMS policies that involve interoperability and the collection of data/information only. The collected data/information will help CMS, and the EMDI team in determining the overall effectiveness of piloting the EMDI program, as well as assessing each provider's current ability to send, and receive electronic data. Form Number: CMS-10714 (OMB control number: 0938-New); Frequency: Yearly; Affected Public: Private Sector (Business or other for-profit, not-for-profit institutions); Number of Respondents: 240; Total Annual Responses: 240; Total Annual Hours: 120. For policy questions regarding this collection contact Christopher Lofts at 410-786-4076.

Dated: November 8, 2019.
William N. Parham, III,
Director, Paperwork Reduction Staff, Office of Strategic Operations and Regulatory Affairs.

[FR Doc. 2019-24755 Filed 11-13-19; 8:45 am]

BILLING CODE 4120-01-P